DEPARTMENT OF ENERGY

Federal Energy Regulatory Commission

[Docket Nos. ER10-1401-000, ER11-2256-000, ER11-3149-000, ER11-3856-000, ER11-4580-000]

California Independent System Operator Corporation; Notice of FERC Staff Attendance

The Federal Energy Regulatory Commission (Commission) hereby gives notice that on the following dates members of its staff will participate in teleconferences and meetings to be conducted by the California Independent System Operator (CAISO). The agenda and other documents for the teleconferences and meetings are available on the CAISO's Web site, http://www.caiso.com.

October 18, 2011 | Renewables Integration Market and Product Review.
October 19, 2011 | Settlements and Market Clearing User Group.
| Congestion Revenue Rights.
| 2012 Grid Management Charge.
October 20, 2011 | Market Update.
| Generated Bids for Outages of Non Resource Specific.
| Resource Adequacy Resources.
October 25, 2011 | Operation and Maintenance Cost Adder Review BPM Change Management.
October 26, 2011 | Market Performance and Planning Forum.
| Settlements and Market Clearing User Group.
| Congestion Revenue Rights.
October 27, 2011 | Board of Governors Meeting and Audit Committee.
October 28, 2011 | Board of Governors Meeting and Audit Committee.
October 31, 2011 | Transmission Planning and Generator Interconnection.
| Integration Draft Final Proposal.

Sponsored by the CAISO, the teleconferences and meetings are open to all market participants, and staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Dated: October 14, 2011.
Nathaniel J. Davis, Sr.,
Deputy Secretary.

[FR Doc. 2011-27141 Filed 10-19-11; 8:45 am]

BILLING CODE 6717-01-P